DEPARTMENT OF COMMERCE

National Oceanic and Atmospheric Administration

RIN 0648-XC717

Endangered and Threatened Species; Take of Anadromous Fish

AGENCY: National Marine Fisheries Service (NMFS), National Oceanic and Atmospheric Administration, Commerce.

ACTION: Notice of decision and availability of decision documents on the issuance of two ESA research/enhancement permits for take of threatened species.

SUMMARY: This notice advises the public that two direct take permits have been issued pursuant to the Endangered Species Act of 1973 (ESA) for continued operation, monitoring, and evaluation of hatchery programs rearing and releasing fall Chinook salmon in the Snake River basin of Idaho, and that the decision documents are available upon request.

DATES: Permits 16607 and 16615 were issued on October 9, 2012, subject to certain conditions set forth therein. Subsequent to issuance, the necessary countersignatures by the applicants were received. The permits expire on December 31, 2017.

ADDRESSES: Requests for copies of the decision documents or any of the other associated documents should be directed to the Salmon Management Division, NOAA's National Marine Fisheries Service, 1201 NE. Lloyd Blvd., Suite 1100, Portland, Oregon 97232. The documents are also available on the Internet at www.nwr.noaa.gov.

FOR FURTHER INFORMATION CONTACT: Craig Busack, Portland, OR at phone number: (503) 230-5412, email: craig.busack@noaa.gov

SUPPLEMENTARY INFORMATION: This notice is relevant to the following species and evolutionarily significant units (ESUs):

Chinook salmon (Oncorhynchus tshawytscha): threatened, naturally produced and artificially propagated Snake River fall-run.

Dated: June 4, 2013.
Helen Golde,
Deputy Director, Office of Protected Resources, National Marine Fisheries Service.

[FR Doc. 2013-13642 Filed 6-7-13; 8:45 am]

BILLING CODE 3510-22-P